DEPARTMENT OF JUSTICE

Notice of Extension of Comment Period Regarding Consent Judgment Lodged Pursuant to Comprehensive Environmental Response, Compensation, and Liability Act

On October 17, 2003, Notice was published in the Federal Register that on September 30, 2003, a proposed Consent Judgment in United States v. City of Glen Cove, et al, Civil Action No. CV-03-4975, was lodged with the United States Court for the Eastern District of New York. 68 FR 59819 (“Notice”). The Notice described the proposed Consent Judgment and set forth the intention of the United States Department of Justice to receive any comments concerning the proposed Consent Judgment for a period of thirty (30) days from the date of the publication of the Notice.

Notice is hereby given that, consistent with 42 U.S.C. 9622(d) and 28 CFR 50.7, and in response to a request received, the United States will receive comments regarding the proposed Consent Judgment for an additional fifteen (15) days, until December 2, 2003.

Reference should be made to the Notice for a description of the proposed Consent Judgment and for the procedure to be followed in order to comment thereon.

Ronald Gluck,
Assistant Chief, Environmental Enforcement Section, Environment and Natural Resources Division.

[FR Doc. 03-29606 Filed 11-25-03; 8:45 am]

BILLING CODE 4410-15-M